DEPARTMENT OF ENERGY

Federal Energy Regulatory Commission

[Project Nos. 2391-048, 2425-054, 2509-048]

Notice of Intent To File License Application, Filing of Pre-Application Document, Approving Use of the Traditional Licensing Process; PE Hydro Generation, LLC

a. Type of Filing: Notice of Intent to File License Application and Request to Use the Traditional Licensing Process.

b. Project Nos.: 2391-048, 2425-054, and 2509-048.

c. Date Filed: August 31, 2018.

d. Submitted by: PE Hydro Generation, LLC.

e. Names and Locations of Projects: Warren Hydroelectric Project No. 2391, located on the Shenandoah River, in Warren County, Virginia. Luray and Newport Hydroelectric Project No. 2425, located on the South Fork of the Shenandoah River, in Page County, Virginia. Shenandoah Hydroelectric Project No. 2509, located on the South Fork of the Shenandoah River in Page and Rockingham Counties, Virginia.

f. Filed Pursuant to: 18 CFR 5.3 of the Commission's regulations.

g. Potential Applicant Contact: Ms. Jody Smet, Cube Hydro Carolinas, 2 Bethesda Metro Center, Suite 1330, Bethesda, MD 20814; (804) 739-0654; email—jsmet@cubecarolinas.com.

h. FERC Contact: Jody Callihan at (202) 502-8278; or email at jody.callihan@ferc.gov.

i. PE Hydro Generation, LLC filed its request to use the Traditional Licensing Process on August 31, 2018, and provided public notice of its request on September 13, 2018. In a letter dated October 25, 2018, the Director of the Division of Hydropower Licensing approved PE Hydro Generation, LLC's request to use the Traditional Licensing Process.

j. With this notice, we are initiating informal consultation with the U.S. Fish and Wildlife Service and NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Virginia State Historic Preservation Officer, as required by section 106, National Historic Preservation Act, and the implementing regulations of the Advisory Council on Historic Preservation at 36 CFR 800.2.

k. With this notice, we are designating PE Hydro Generation, LLC as the Commission's non-federal representative for carrying out informal consultation pursuant to section 7 of the Endangered Species Act and section 305(b) of the Magnuson-Stevens Fishery Conservation and Management Act; and consultation pursuant to section 106 of the National Historic Preservation Act.

l. PE Hydro Generation, LLC filed a Pre-Application Document (PAD; including a proposed process plan and schedule) with the Commission, pursuant to 18 CFR 5.6 of the Commission's regulations.

m. A copy of the PAD is available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502- 8659 (TTY). A copy is also available for inspection and reproduction at the address in paragraph g.

n. The licensee states its unequivocal intent to submit an application for new licenses for Project Nos. 2391, 2425, and 2509. Pursuant to 18 CFR 16.8, 16.9, and 16.10 each application for a new license and any competing license applications must be filed with the Commission at least 24 months prior to the expiration of the existing license. All applications for licenses for these projects must be filed by December 31, 2021.

o. Register online at http://www.ferc.gov/docs-filing/esubscription.asp to be notified via email of new filing and issuances related to this or other pending projects. For assistance, contact FERC Online Support.

Dated: October 25, 2018.
Kimberly D. Bose,
Secretary.

[FR Doc. 2018-23771 Filed 10-30-18; 8:45 am]

BILLING CODE 6717-01-P